DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by October 17, 2002.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address above).

PRT-058006

Applicant: Roger Williams Park Zoo, Providence, RI.

The applicant requests a permit to import ten parma wallabies (Macropus parma) from the feral population on Kawau Island, New Zealand, for the purpose of enhancement of the survival of the species through captive propagation. The parma wallaby was introduced to Kawau Island and is subject to eradication efforts by the New Zealand government. The import of these animals would serve as an alternative to extermination and introduce new founder stock into captive breeding efforts. The animals would be maintained at Brevard Zoo, Buffalo Zoo, Riverbanks Zoo, Roger Williams Park Zoo, and San Diego Zoo.

PRT-836457

Applicant: West Indian Iguana Specialist Group of the Species Survival Commission of the IUCN, San Diego, CA.

The applicant requests re-issuance of a permit for the import of multiple shipments of biological samples from captive-bred, captive-held and wild specimens of endangered and threatened Cyclura species, worldwide. The permit was originally issued on February 18, 1999. This notification covers activities conducted by the applicant over a period of 5 years.

PRT-061693

Applicant: Scott Alan Collins, Dallas, TX.

The applicant requests a permit to import the sport-hunted trophy of one male bontebok (Damaliscus pygargus dorcas) culled from a captive herd maintained under the management program of the Republic of South Africa for the purpose of enhancement of the survival of the species.

PRT-061767

Applicant: Drexel University, Philadelphia, PA.

The applicant requests issuance of a permit for the import of multiple shipments of biological samples from wild specimens of leatherback sea turtles, Dermochelys coriacea, obtained by the Dalhousie University, Halifax, Canada, from stranded specimens for the purpose of scientific research. This notification covers activities conducted by the applicant over a period of 5 years.

The U.S. Fish and Wildlife Service has information collection approval from OMB through March 31, 2004, OMB Control Number 1018-0093. Federal Agencies may not conduct or sponsor and a person is not required to respond to a collection of information unless it displays a current valid OMB control number.

Dated: August 29, 2002.
Monica Farris,
Senior Permit Biologist, Branch of Permits, Division of Management Authority.

[FR Doc. 02-23517 Filed 9-16-02; 8:45 am]

BILLING CODE 4310-55-P